DEPARTMENT OF THE INTERIOR

Bureau of Indian Affairs

[AAK6006201 145A2100DD AOR3B3030.999900]

Final Environmental Impact Statement for the Proposed RES Americas Moapa Solar Energy Center, Clark County, Nevada

AGENCY: Bureau of Indian Affairs, Interior.

ACTION: Notice of availability.

SUMMARY: The Bureau of Indian Affairs, as the lead Federal agency, intends to file a final environmental impact statement for the proposed RES Americas Moapa Solar Energy Center on the Moapa River Indian Reservation in Clark County, Nevada. Cooperating Agencies in this filing are the Bureau of Land Management (BLM), the Environmental Protection Agency (EPA), the National Park Service (NPS), and the Moapa Band of Paiute Indians (Tribe). The final environmental impact statement is now available for public review.

DATES: The Record of Decision on the proposed action will be issued no sooner than 30 days after EPA publishes its Notice of Availability in the Federal Register.

ADDRESSES: You may request a hard copy or compact disk copy of the final environmental impact statement (FEIS) by writing or contacting Mr. Garry Cantley, BIA Western Regional Office, 2600 North Central Avenue, 4th Floor Mail Room, Phoenix, Arizona 85004-3008; fax (602) 379-3833; email: Garry.Cantley@bia.gov. The FEIS is available on line at: www.MoapaSolarEnergyCenterEIS.com. Hard copies of the FEIS are also available for review at:

• BIA Western Regional Office, 2600 North Central Avenue, 12th Floor, Suite 210, Phoenix, Arizona;

• BIA Southern Paiute Agency, 180 North 200 East, Suite 111, St. George, Utah; and

• BLM Southern Nevada District Office, 4701 N. Torrey Pines Drive, Las Vegas, Nevada.

FOR FURTHER INFORMATION CONTACT: Mr. Garry Cantley, BIA Western Regional Office, Branch of Environmental Quality Services, 2600 North Central Avenue, Phoenix, Arizona 85004-3008, telephone (602) 379-6750 Ext. 1256.

SUPPLEMENTARY INFORMATION: The purpose of the proposed project is to construct a 200 megawatt (MW) solar electric generation facility, water line, and associated infrastructure on the Reservation, and obtain grants of right-of-way (ROW) on BLM lands for 230 kV and 500 kV transmission lines and associated access roads. The proposed project is needed to:

• Provide land lease income, sustainable renewable resources, new jobs, and other benefits for the Tribe by using solar resources on Reservation lands where there is high potential for solar electric generation (the primary need).

• Assist utilities in meeting their renewable energy goals by providing electricity generated from solar resources from Tribal lands (the secondary need).

The proposed Federal action consists of:

• BIA approval of a solar energy ground lease and agreements entered into by the Tribe with Moapa Solar LLC (Applicant);

• BIA approval of ROWs and easements for the Applicant to construct, operate, and maintain an up to 200 MW solar photovoltaic electricity generating facility and water pipeline on the Reservation;

• BLM approval of ROWs for the 230 kV and 500 kV transmission lines and access roads on BLM-administered Federal lands; and

• BLM approval of ROWs for the portions of the 500 kV transmission line and water pipeline located within an existing utility corridor located on the Reservation.

BIA and BLM will use the FEIS to make decisions on the land lease and ROW applications under their respective jurisdictions; EPA and NPS may use the documentation under their authorities; the Tribe may use the FEIS to make decisions under their Tribal Environmental Policy Ordinance; and the U.S. Fish and Wildlife Service may use the FEIS to support its decision under the Endangered Species Act.

Authority: This notice is published in accordance with the Council on Environmental Quality regulations (40 CFR part 1500 et seq.) and the Department of the Interior Regulations (43 CFR part 46) implementing the procedural requirements of the National Environmental Policy Act (42 U.S.C. 4321 et seq.), and in accordance with the exercise of authority delegated to the Assistant Secretary—Indian Affairs by part 209 of the Department Manual.

Dated: January 30, 2014.
Kevin K. Washburn,
Assistant Secretary—Indian Affairs.

[FR Doc. 2014-03147 Filed 2-13-14; 8:45 am]

BILLING CODE 4310-W7-P